DEPARTMENT OF COMMERCE

National Oceanic and Atmospheric Administration

RIN 0648-XR61

Marine Mammals; File No. 14535

AGENCY: National Marine Fisheries Service (NMFS), National Oceanic and Atmospheric Administration (NOAA), Commerce.

ACTION: Notice; receipt of application.

SUMMARY: Notice is hereby given that Colleen Reichmuth, Ph.D., University of California at Santa Cruz, Long Marine Laboratory, 100 Shaffer Road, Santa Cruz, CA, has applied in due form for a permit to conduct research on captive pinnipeds.

DATES: Written, telefaxed, or e-mail comments must be received on or before October 15, 2009.

ADDRESSES: The application and related documents are available for review by selecting “Records Open for Public Comment” from the Features box on the Applications and Permits for Protected Species (APPS) home page, https://apps.nmfs.noaa.gov, and then selecting File No. 14535 from the list of available applications.

These documents are also available upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Amy Sloan or Kate Swails, (301)713-2289.

SUPPLEMENTARY INFORMATION: The subject permit is requested under the authority of the Marine Mammal Protection Act of 1972, as amended (MMPA; 16 U.S.C. 1361 et seq.) and the regulations governing the taking and importing of marine mammals (50 CFR part 216).

The proposed five-year permit comprises a continuation of psychological and physiological studies at Long Marine Laboratory with captive pinnipeds, including California sea lions (Zalophus californianus); harbor seals (Phoca vitulina); and northern elephant seals (Mirounga angustirostris), designed to evaluate their perceptual and cognitive capabilities. Measurements obtained using behavioral and physiological methods will be used to improve knowledge of pinniped sensory adaptations, examine cognitive mechanisms for acquiring and processing sensory information, and develop procedures for rapidly and humanely studying marine mammal hearing and the effects of anthropogenic noise. The captive animals are trained to voluntarily participate in behavioral stimulus detection and discrimination paradigms that may be conducted in air or under water. The applicant currently holds one California sea lion, one harbor seal, and one northern elephant seal, and requests permission to obtain additional animals for the research program over the duration of the permit, not to exceed a total of two of each species listed above. Additional animals would be obtained from captive and rehabilitation facilities, including permanently captive and non-releasable rehabilitated animals. If those sources are not available, releasable rehabilitated animals from West Coast rehabilitation facilities are requested.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 9, 2009.
P. Michael Payne,
Chief, Permits, Conservation and Education Division, Office of Protected Resources, National Marine Fisheries Service.

[FR Doc. E9-22180 Filed 9-14-09; 8:45 am]

BILLING CODE 3510-22-S